DEPARTMENT OF COMMERCE

National Oceanic and Atmospheric Administration

[Docket No. 001027302-0302-01]

RIN: 0648 ZA98

National Sea Grant College Program—National Marine Fisheries Service Joint Graduate Fellowship Program in Population Dynamics and Marine Resource Economics

AGENCY: National Sea Grant College Program, National Oceanic and Atmospheric Administration, Department of Commerce.

ACTION: Notice.

SUMMARY: This notice announces that applications may be submitted for the Graduate Fellowship Program in Population Dynamics and Marine Resource Economics (Program) jointly established in 1999 by the National Sea Grant College Program Office (NSGO), in fulfilling its broad educational responsibilities and to strengthen its collaboration with the National Marine Fisheries Service (NMFS), and NMFS, in fulfilling its responsibilities to manage, conserve, and protect the Nation's living marine resources within the U.S. Exclusive Economic Zone and to provide the sound scientific information and analyses necessary for those purposes. Contingent upon the availability of Federal funds, the Program will provide grants to support four graduate students, two in Population Dynamics and two in Marine Resource Economics, who are United States citizens and enrolled in relevant PhD degree programs in any university in the United States and its territories. Fellows will work on thesis problems of public interest and relevance and have summer internships under the guidance of a NMFS mentor at participating NMFS Science Centers or Laboratories. Applications must be submitted through one of the state Sea Grant programs (see below) (or to the National Sea Grant Office only if an applicant is attending a university in a non-Seas Grant state).

DATES: Applications must be received by February 15, 2001 by a state Sea Grant program (or the National Sea Grant Office only if an applicant is attending a university in a non-Sea Grant state).

ADDRESSES: Applications should be addressed to the nearest state Sea Grant program (or the National Sea Grant Office only if an applicant is attending a university in a non-Sea Grant state). Contact the appropriate state Sea Grant program from the list below to obtain the mailing address.

FOR FURTHER INFORMATION CONTACT:

Information can be obtained from Dr. Emory D. Anderson, Program Director for Fisheries, National Sea Grant College Program, 1315 East-West Highway, Silver Spring, MD 20910, tel: (301) 713-2435 ext. 144, e-mail: emory.anderson@noaa.gov; from any state Sea Grant program (see below); or from any participating NMFS facility (see below).

Sea Grant Programs

University of Alaska—(907) 474-7086

University of California—(619) 534-4440

University of Connecticit—(860) 405-9128

University of Delaware—(302) 831-2841

University of Florida—(352) 392-5870

University of Georgia—(706) 542-6009

University of Hawaii—(808) 956-7031

University of Illinois—(765) 494-3593

Louisiana State University—(225) 388-6710

University of Maine—(207) 581-1436

University of Maryland—(301) 405-6209

Massachusetts Institute of Technology—(617) 253-7131

University of Michigan—(734) 763-1437

University of Minnesota—(218) 726-8106

Mississippi-Alabama Sea Grant Consortium—(228) 875-9341

University of New Hampshire—(603) 862-0122

New Jersey Marine Science Consortium—(732) 872-1300

State University of New York—(516) 632-6905

University of North Carolina—(919) 515-2454

Ohio State University—(614) 292-8949

Oregon State University—(541) 737-2714

University of Puerto Rico—(787) 832-3585

Purdue University—(765) 494-3593

University of Rhode Island—(401) 874-6800

South Carolina Sea Grant Consortium—(843) 727-2078

University of Southern California—(213) 740-1961

Texas A&M University—(409) 845-3854

Virginia Graduate Marine Science Consortium—(804) 924-5965

University of Washington—(206) 543-6600

University of Wisconsin—(608) 262-0905

Woods Hole Oceanographic Institute—(508) 289-2557

Participating NMFS Facilities for Population Dynamics Fellowships

Alaska Fisheries Science Center

Auke Bay Laboratory, Juneau, AK; Contact person: Phillip Rigby; Tel: (907) 789-6653; E-mail: phillip.rigby@noaa.gov

National Marine Mammal Laboratory, Seattle, WA; Contact person: Douglas DeMaster; Tel: (206) 526-4047; E-mail: douglas.demaster@noaa.gov

Resource Ecology and Fisheries Management Division, Seattle, WA; Contact person: Richard Marasco; Tel: (206) 526-4172; E-mail: rich.marasco@noaa.gov

Northwest Fisheries Science Center

Montlake Laboratory, Seattle, WA; Contact person: Linda Jones; Tel: (206) 860-3200; E-mail: linda.jones@noaa.gov

Mark O. Hatfield Marine Science Center, Newport, OR; Contact person: Linda Jones; Tel: (206) 860-3200; E-mail: linda.jones@noaa.gov

Northeast Fisheries Science Center

Woods Hole Laboratory, Woods Hole, MA; Contact person: Fredric Serchuk; Tel: (508) 495-2245; E-mail: fred.serchuk@noaa.gov

Southeast Fisheries Science Center

Miami Laboratory, Miami, FL; Contact person: Nancy Thompson; Tel: (305) 361-4285; E-mail: nancy.thompson@noaa.gov

Beaufort Laboratory, Beaufort, NC; Contact person: Douglas Vaughan; Tel: (252) 728-8761; E-mail: doug.vaughan@noaa.gov

Southwest Fisheries Science Center

La Jolla Laboratory, La Jolla, CA; Contact person: Richard Neal; Tel: (858) 546-7066; E-mail: richard.a.neal@noaa.gov

Pacific Fisheries Environmental Laboratory, Pacific Grove, CA; Contact person: George Boehlert, Tel: (831) 648-8447; E-mail: george.boehlert@noaa.gov

Honolulu Laboratory, Honolulu, HI; Contact person: Jerry Wetherall; Tel: (808) 983-5386; E-mail: jerry.wetherall@noaa.gov

Santa Cruz Laboratory, Santa Cruz, CA; Contact person: Churchill Grimes; Tel: (831) 459-4879; E-mail: churchill.grimes@noaa.gov

Participating NMFS Facilities for Marine Resource Economics Fellowships

Northeast Fisheries Science Center

Woods Hole Laboratory, Woods Hole, MA; Contact person: Philip Logan; Tel: (508) 495-2354; E-mail: phil.logan@noaa.gov

Southeast Fisheries Science Center

Miami Laboratory, Miami, FL; Contact person: Nancy Thompson; Tel: (305) 361-4285; E-mail: nancy.thompson@noaa.gov.

Southwest Fisheries Science Center

La Jolla Laboratory, La Jolla, CA; Contact person: Richard Neal; Tel: (858) 546-7066; E-mail: richard.a.neal@noaa.gov

Northwest Fisheries Science Center

Montlake Laboratory, Seattle, WA; Contact person: Linda Jones; Tel: (206) 860-3200; E-mail: linda.jones@noaa.gov

Alaska Fisheries Science Center

Resource Ecology and Fisheries Management Division, Seattle, WA; Contact person: Joseph Terry; Tel: (206) 526-4253; E-mail: joe.terry@noaa.gov

SUPPLEMENTARY INFORMATION: National Sea Grant College Program—National Marine Fisheries Service Joint Graduate Fellowship Program in Population Dynamics and Marine Resource Economics

I. Program Authority

Authority: 33 U.S.C. 1127. (Catalog of Federal Domestic Assistance Number: 11.417, Sea Grant Support.)

II. Introduction

The National Sea Grant College Program Office (NSGO) and the National Marine Fisheries Service (NMFS) established a new Graduate Fellowship Program in Population Dynamics and Marine Resource Economics (Program) in 1999. Contingent upon the availability of Federal funds, the Program will award fellowships, to begin in the summer, to four students each year who are interested in careers related to (1) the population dynamics of living marine resources and the development and implementation of quantitative methods for assessing their status, and (2) the economics of the conservation and management of living marine resources. Two fellowships will be awarded each year in each of the above two disciplines resulting in an anticipated six students per discipline eventually supported annually by fellowships when the Program reaches its maximum level three years following its inception.

The fellowships will provide support for up to three years for highly qualified graduate students working towards a PhD in population dynamics or related fields of study and for up to two years for highly qualified graduate students working towards a PhD in marine resource economics, natural resource economics, or environmental economics. Continued support after the first year will be contingent upon the availability of Federal funds and satisfactory performance of the Fellow. In addition to his/her major professor, each Fellow will be required to work closely with an expert (mentor) from NMFS who will provide data for the Fellow's thesis, serve on the Fellow's committee, and host an annual summer internship at the participating NMFS facility.

The goals of the Program are to (1) encourage qualified applicants to pursue careers in (a) population dynamics and stock assessment methodology or (b) marine resource economics; (2) increase available expertise related to (a) the population dynamics and assessment of stock status of living marine resources or (b) economic analysis of living marine resource conservation and management decisions; (3) foster closer relationships between academic scientists and NMFS; and (4) provide real-world experience to graduate students and accelerate their career development.

III. Eligibility

Any student may apply who is a United States citizen. At the time of application, prospective Population Dynamics Fellows must be admitted to a PhD degree program in population dynamics or a related field such as applied mathematics, statistics, or quantitative ecology at a university in the United States, or submit a signed letter from the university indicating provisional acceptance to a PhD degree program conditional on obtaining financial support such as this fellowship. At the time of application, prospective Marine Resource Economics Fellows must be in the process of completing at least two years of course work in a PhD degree program in natural resource economics or a related field at a university in the United States.

IV. Award

The award for each fellowship, contingent upon the availability of Federal funds, will be in the form of a grant of $38,000 per year, 50% ($19,000) of which will be contributed by NMFS, 33⅓% ($12,667) by the NSGO, and 16⅔% ($6,333) by the university as the required 50% match of NSGO funds. The portion of the award provided to each Fellow for salary (stipend), living expenses (per diem), tuition (unless waived), health insurance and other university fees, and travel necessary to carry out the proposed thesis research and to attend the annual Fellows meeting in the spring in Silver Spring, MD will be determined and distributed by the state Sea Grant program/university in accordance with its guidelines. Indirect costs are not allowable for either the fellowship or for any costs associated with the fellowship, according to 15 CFR 917.11(e), Guidelines for Sea Grant Fellowships.

V. Selection Criteria

Selection criteria will include (1) relevant academic ability and achievement, particularly quantitative skills (35%); (2) demonstrated research ability in the discipline and appropriateness/importance of proposed thesis topic (30%); (3) expertise of major professor (20%); and (4) additional relevant experience (15%).

VI. Selection

Selection is competitive. A review panel consistent of experts in the two disciplines and representatives from the NSGO and NMFS will evaluate and rank the candidates in accordance with the above criteria. The panel members will provide individual evaluations on each candidate, but there will be no consensus advice. Two Fellows will be selected in each discipline by the Fellowship Program Manager based in part on the rankings provided by the review panel. In addition, the Program Manager will give priority to NMFS Fisheries Science Centers which do not currently have Fellows. Accordingly, awards may not necessarily be made to the two highest-scoring candidates in each discipline.

VII. Timetable

February 15, 2001, 5 p.m. (local time)—Applications due at state Sea Grant program or NSGO (only if an applicant is attending a university in a non-Sea Grant state).

February 21, 2001, 5 p.m. EST—Applications due at NSGO from state Sea Grant programs.

April 1, 2001 (approximate)—Successful Fellows may expect to be notified.

June 1, 2001 (approximate)—Fellowships awarded and will commence.

VIII. Participating NMFS Facilities

Mentors will be from participating NMFS Science Centers, Laboratories, or Regional Offices. Each Fellow will be required to work as a summer intern at the participating NMFS facility either on his/her thesis or on appropriate related problems. Remuneration for the summer internship will be part of the annual award. Population Dynamics Fellows will also be expected to spend 10-20 days at sea per year learning about sampling techniques and problems, commercial fishing, fishery biology, and local and regional issues of importance to fisheries management. Fellows may also work, as necessary, at the participating NMFS facility during some or all of the academic year at the mutual discretion of mentor, major professor, and Fellow.

IX. Reporting Requirements

Fellows will submit a one-page description of their thesis research or assignment based on discussions involving mentor, major professor, and Fellow to the Fellowship Program Manager by April 30, 2001. The thesis research or assignment description will reflect a clear mutual understanding of the substantive dimensions of the project and its expected results.

Fellows will, for each year of their fellowship, provide a written annual summary of their accomplishments and activities during the preceding year to the Fellowship Program Manager. This summary is due no later than one month following the anniversary of the start of the fellowship. Fellows will be expected to present a review of their research during the annual Fellows meeting held in the spring in Silver Spring, MD.

X. Application Instructions

An application must be received by February 15, 2001 by the state Sea Grant program in the state in which the student is or will be enrolled. If the student is or will be enrolled in a university in a non-Sea Grant state, the application should be submitted to the nearest state Sea Grant program. The addresses of the state Sea Grant College programs may be found at the following Internet website: (http://www.nsgo.seagrant.org/SGDirectors.html) or may be obtained by contacting the Program Manager, Dr. Emory D. Anderson, at the National Sea Grant Office (phone: 301-713-2435 x144 or e-mail: emory.anderson@noaa.gov). The state Sea Grant program must forward the application to the NSGO, certifying that the application was received by the due date. Applications sent to the NSGO should be addressed to: National Sea Grant Office, R/SG, Attn: Mrs. Geraldine Taylor, Graduate Fellowship Competition, Room 11732, NOAA, 1315 East-West Highway, Silver Spring, MD 20910 (phone number for express mail applications is 301-713-2445). An applicant must contact the prospective participating NMFS facility and mentor prior to submitting the application, and must include a letter of commitment from the NMFS mentor in the application. Each application package should be completed with input from the student, major professor, university, and state Sea Grant program. All pages should be single- or double-spaced, typewritten in at least a 10-point font with 1″ margins and printed on 8.5″ × 11″ paper. An original and at least 2 additional copies of the application must be submitted. Each application must include the first eight items listed below, with the standard forms indicated under Item 9 required only with the final funding requests submitted for the successful fellowship applications.

(1) Complete curriculum vitae from both student and major professor.

(2) An education and career goal statement (not to exceed two pages) from the applicant indicating the number of years for which fellowship support is being sought and the applicant's interest in (a) marine population dynamics or the development and implementation of quantitative methods for assessing stock status of living marine resources, or (b) in marine resource economics (a summary of the proposed thesis or the general intended area of study should be included, if available).

(3) Three signed letters of recommendation, with at least one from the student's major professor.

(4) A signed letter of commitment from the prospective NMFS mentor.

(5) Official copies of all undergraduate and graduate student transcripts.

(6) Proof of application, acceptance, provisional acceptance, and enrollment (only for Population Dynamics applicants) in the case of students entering graduate school (i.e., who have not yet completed one semester of graduate work) if they are selected for a fellowship.

(7) Project Summary: The Sea Grant Project Summary Form 90-2 should preferably be used, but the universities or state programs may use their own form as long as it provides the same information as the Sea Grant form. The project summary should include: (a) Title: Use the exact title as it appears in the rest of the application. (b) Principal Investigator: The applicant's major professor or the state Sea Grant director may be used. (c) Funding request for each year of the fellowship, including matching funds. (d) Project Period: Start and completion dates. Applications should request a start date of June 1, 2001, or later. (e) Project Summary: This should include the rationale for the fellowship, the scientific or technical objectives and/or hypotheses to be tested in the Fellow's thesis, and a brief summary of work to be completed.

(8) Budget and Budget Justification: There should be a separate budget for each year as well as a cumulative annual budget for the entire period of the proposed fellowship. The Sea Grant Budget Form 90-4 should preferably be used, but the universities or state programs may use their own form as long as it provides the same information as the Sea Grant form. A written matching commitment, equal to 50% of the NSGO amount (see above), from the university to support the budget for the period of the award must be provided. Allocation of matching funds must be specified in the budget and may consist of up to 50% of a month's salary of the major professor, waived tuition, equipment and supplies, and any other costs typically used as matching funds. In addition to stipend and tuition for the applicant, the budget should include funds for equipment, supplies, and travel necessary to carry out the proposed thesis research. Funds should also be allocated for one trip per year to the NOAA offices in Silver Spring, MD for a meeting of all Fellows, mentors, and relevant staff from the NSGO and NMFS.

(9) Standard Application Forms: Applicants may obtain all required application forms at the following Internet website: (http://www.nsgo.seagrant.org/research/rfp/index.html#3), from the state Sea Grant programs, or from Dr. Emory D. Anderson at the National Sea Grant Office (phone: 301-713-2435 x144 or e-mail: emory.anderson@noaa.gov). For applications selected for fellowships, the following forms must also be included in the final request for funding:

(a) Standard Form 424, Application for Federal Assistance. Applications should clearly identify the program area being addressed by starting the project title with “Graduate Fellowship”. Please note that both the Principal Investigator and an administrative contact should be identified in Section 5 of the SF-424. For Section 10, applicants should enter “11.417” for the CFDA Number, and “Sea Grant Support” for the title. The form must contain the original signature of an authorized representative of the applying institution.

(b) Primary Applicant Certifications. All primary applicants must submit a completed Form CD-511, “Certifications Regarding Debarment, Suspension and Other Responsibility Matters; Drug-Free Workplace Requirements and Lobbying”, and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined at 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions”, and the lobbying section of the certification form prescribed above applies to applications/bids for grants, cooperative agreements, and contracts for more than $100,000, and loans and loan guarantees for more than $150,000, or the single family maximum mortgage limit for affected programs, whichever is greater; and

(iv) Anti-Lobbying Disclosures. Any applicant that has paid or will pay for lobbying using any funds must submit an SF-LLL, “Disclosure of Lobbying Activities”, as required under 15 CFR Part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities”. Form CD-512 is intended for the use of recipients and should not be transmitted to the Department of Commerce (DOC). SF-LLL submitted by any tier recipient or subrecipient should be submitted to DOC in accordance with the instructions contained in the award document.

XI. Other Requirements

(A) Federal Policies and Procedures—Recipients and sub-recipients are subject to all Federal laws and Federal and Department of Commerce (DOC) policies, regulations, and procedures applicable to Federal financial assistance awards.

(B) Past Performance—Unsatisfactory performance under prior Federal awards may result in an application not being considered for funding.

(C) Pre-Award Activities—If applicants incur any costs prior to an award being made, they do so solely at their own risk of not being reimbursed by the Government. Notwithstanding any verbal or written assurance that may have been received, there is no obligation on the part of DOC to cover pre-award costs.

(D) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until either:

(1) The delinquent account is paid in full,

(2) A negotiated repayment schedule is established and at least one payment is received, or

(3) Other arrangements satisfactory to DOC are made.

(F) False Statements—A false statement on an application is grounds for denial or termination of funds and grounds for possible punishment by a fire or imprisonment as provided in 18 U.S.C. 1001.

(G) Intergovernmental Review—Applications for support from the National Sea Grant College Program are not subject to Executive Order 12372, “Intergovernmental Review of Federal Programs”.

(H) Purchase of American-Made Equipment and Products—Applicants are hereby notified that they will be encouraged, to the greatest extent practicable, to purchase American-made equipment and products with funding provided under this program.

(I) Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered HBCU/MSIs are listed at the following Internet website: http://www.ed.gov/offices/OCR/99minin.html.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains a collection of information requirements subject to the Paperwork Reduction Act. The Sea Grant Summary Form (90-2), the Sea Grant Budget Form (90-4), and Standard Form 424 have been approved under the respective control numbers 0648-0362, 0648-0362, and 0348-0043, with the average time per response of 20, 15, and 45 minutes. These estimates includes the time for reviewing instructions, searching existing data sources, gathering and maintaining the data needed, and completing and reviewing the collection of information. Send comments on these estimates or any other aspect of this collection to National Sea Grant College Program, R/SG, NOAA, 1315 East-West Highway, Silver Spring, MD 20910 (Attention: Francis S. Schuler) and to the Office of Information and Regulatory Affairs, Office of Management and Budget, Washington, DC 20503 (Attention: NOAA Desk Officer). Notwithstanding any other provision of the law, no person is required to respond to, nor shall any person be subject to a penalty for failure to comply with, a collection of information subject to the requirements of the Paperwork Reduction Act, unless that collection of information displays a currently valid OMB Control Number.

Dated: November 21, 2000.
David L. Evans,
Assistant Administrator, Office of Oceanic and Atmospheric Research, National Oceanic and Atmospheric Administration.
Dated: November 21, 2000
William W. Fox, Jr.,
Director, Office of Science and Technology, National Marine Fisheries Service, National Oceanic and Atmospheric Administration.

[FR Doc. 00-30219 Filed 11-27-00; 8:45 am]

BILLING CODE 3510-KA-M